DEPARTMENT OF COMMERCE

National Oceanic and Atmospheric Administration

RIN 0648-XG804

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one and a half day in-person meeting of its Standing, Reef Fish, Mackerel, Shrimp and Socioeconomic Scientific and Statistical Committees (SSC).

DATES: The meeting will convene at 8:30 a.m. on Wednesday, March 13, 2019 and adjourn by 12 noon, EDT on Thursday, March 14, 2019.

ADDRESSES: The meeting will be held at the Gulf Council's office; see address below.

Council address: Gulf of Mexico Fishery Management Council, 4107 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Wednesday, March 13, 2019; 8:30 a.m.-5 p.m.

The meeting will begin with Introductions, Adoption of Agenda, and Approval of Scientific and Statistical Committees (SSC) Minutes from the January 9, 2018 Standing, Reef Fish, and Mackerel SSC meeting; and, selection of SSC representative to attend the April 1-4, 2019 Council meeting in Biloxi, MS. The committees will review the SSC Operating Procedures; Stock Assessment Prioritization Tool; Updated Gray Snapper Projections at F26%SPR; and, the Gulf Sector Allocations.

The committees will discuss Reef Fish and Coastal Migratory Pelagics Fishery Management Plans (FMP) Objectives; review the Generic Annual Catch Limit (ACL) Carryover Amendment; receive an update on the NOAA RESTORE Activities; discuss the revisions to the Acceptable Biological Catch (ABC) Control Rule; and, select SSC volunteer members to participate on SEDAR 68: Scamp Data Workshop.

Thursday, March 14, 2019; 8:30 a.m.-12 p.m.

The committees will review the Stock Status for the Gulf of Mexico Shrimp Species; Marine Recreational Information Program (MRIP) data integration for Gulf Red Snapper; SEDAR Stock Assessment Executive Summary Components; and, discuss any other business items.

—Meeting Adjourns—

The meeting will be broadcast via webinar. You may register for listen-in access by visiting www.gulfcouncil.org and clicking on the SSC meeting on the calendar.

The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council office (see ADDRESSES), at least 5 working days prior to the meeting

Dated: February 15, 2019.
Tracey L. Thompson,
Acting Deputy Director, Office of Sustainable Fisheries, National Marine Fisheries Service.

[FR Doc. 2019-02958 Filed 2-20-19; 8:45 am]

BILLING CODE 3510-22-P